DEPARTMENT OF COMMERCE

International Trade Administration

[A-570-900]

Diamond Sawblades and Parts Thereof From the People's Republic of China: Final Results of Antidumping Duty Administrative Review; 2017-2018

AGENCY: Enforcement and Compliance, International Trade Administration, Department of Commerce.

SUMMARY: The Department of Commerce (Commerce) determines that diamond sawblades and parts thereof from the People's Republic of China (China) were not sold at less than normal value during the period of review (POR) November 1, 2017 through October 31, 2018.

DATES: Applicable November 9, 2020.

FOR FURTHER INFORMATION CONTACT: Bryan Hansen, AD/CVD Operations, Office I, Enforcement and Compliance, International Trade Administration, U.S. Department of Commerce, 1401 Constitution Avenue NW, Washington, DC 20230; telephone: (202) 482-3683.

SUPPLEMENTARY INFORMATION:

Background

On January 16, 2020, Commerce published in the Federal Register the preliminary results of the 2017-2018 administrative review of the antidumping duty order on diamond sawblades and parts thereof from China.¹ We invited interested parties to comment on the Preliminary Results and we received a case brief from the petitioner, the Diamond Sawblades Manufacturers' Coalition,² and a rebuttal brief from Chengdu Huifeng New Material Technology Co., Ltd., the Jiangsu Fengtai Single Entity, and Wuhan Wanbang Laser Diamond Tools Co., Ltd.³

¹ See Diamond Sawblades and Parts Thereof from the People's Republic of China: Preliminary Results of Antidumping Duty Administrative Review and Preliminary Determination of No Shipments; 2017-2018, 85 FR 2705 (January 16, 2020) (Preliminary Results), and accompanying Preliminary Decision Memorandum.

² See Petitioner's Letter, “Diamond Sawblades and Parts Thereof from the People's Republic of China: DSMC's Case Brief,” dated February 18, 2020.

³ See Chengdu Huifeng Diamond Tools Co., Ltd., the Jiangsu Fengtai Single Entity, and Wuhan Wanbang Laser Diamond Tools Co., Ltd.'s Letter, “Diamond Sawblades and Parts Thereof from the People's Republic of China: Submission of Chengdu Huifeng's Administrative Rebuttal Brief,” dated March 2, 2020. The Jiangsu Fengtai Single Entity is comprised of Jiangsu Fengtai Diamond Tool Manufacturer Co., Ltd., Jiangsu Fengtai Diamond Tools Co., Ltd., and Jiangsu Fengtai Sawing Industry Co., Ltd.

On April 24, 2020, Commerce tolled all deadlines in administrative reviews by 50 days, thereby tolling the deadline for the final results of review.⁴ On June 15, 2020, Commerce extended the deadline for the final results of review, thereby extending the deadline for the final results of review.⁵ On July 21, 2020, Commerce tolled all deadlines in administrative reviews by an additional 60 days, thereby tolling the deadline for the final results of review until November 2, 2020.⁶

⁴ See Memorandum, “Tolling of Deadlines for Antidumping and Countervailing Duty Administrative Reviews in Response to Operational Adjustments Due to COVID-19,” dated April 24, 2020.

⁵ See Memorandum, “Diamond Sawblades and Parts Thereof from the People's Republic of China; 2017-2018: Extension of Time Limit for Final Results of Antidumping Duty Administrative Review,” dated June 15, 2020.

⁶ See Memorandum, “Tolling of Deadlines for Antidumping and Countervailing Duty Administrative Reviews,” dated July 21, 2020. Because the new deadline falls on November 1, 2020, which a Sunday, the deadline has been moved to the next business day, in accordance with our regulations. See Notice of Clarification: Application of “Next Business Day” Rule for Administrative Determination Deadlines Pursuant to the Tariff Act of 1930, As Amended, 70 FR 24533 (May 10, 2005) (Next Business Day Rule).

Scope of the Order

The merchandise subject to the antidumping duty order is diamond sawblades and parts thereof, which is typically imported under heading 8202.39.00.00 of the Harmonized Tariff Schedule of the United States (HTSUS). When packaged together as a set for retail sale with an item that is separately classified under headings 8202 to 8205 of the HTSUS, diamond sawblades or parts thereof may be imported under heading 8206.00.00.00 of the HTSUS. On October 11, 2011, Commerce included the 6804.21.00.00 HTSUS classification number to the customs case reference file, pursuant to a request by U.S. Customs and Border Protection (CBP). Pursuant to requests by CBP, Commerce included to the customs case reference file the following HTSUS classification numbers: 8202.39.0040 and 8202.39.0070 on January 22, 2015, and 6804.21.0010 and 6804.21.0080 on January 26, 2015.

While the HTSUS numbers are provided for convenience and customs purposes, the written description is dispositive. A full description of the scope of the order is contained in the Issues and Decision Memorandum.⁷

⁷ See Memorandum, “Diamond Sawblades and Parts Thereof from the People's Republic of China: Decision Memorandum for the Final Results of the Antidumping Duty Administrative Review; 2017-2018,” dated concurrently with, and hereby adopted by, this notice (Issues and Decision Memorandum).

Analysis of Comments Received

All issues raised in the case and rebuttal briefs filed by parties in this review are addressed in the Issues and Decision Memorandum. A list of the issues that parties raised, and to which we responded in the Issues and Decision Memorandum, follows as an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at http://enforcement.trade.gov/frn/.

Final Determination of No Shipments

We preliminarily found that Danyang Weiwang Tools Manufacturing Co., Ltd., Danyang Hantronic Import & Export Co., Ltd., and Weihai Xiangguang Mechanical Industrial Co., Ltd., which have been eligible for separate rates in previous segments of the proceeding and are subject to this review, did not have any shipments of subject merchandise during the POR.⁸ On February 21, 2020, we received confirmation that U.S. Customs and Border Protection (CBP) found no shipments by any of these companies during the POR.⁹ No party commented on the Preliminary Results regarding the no shipments decision. Therefore, for these final results, we continue to find that these companies did not have any shipments of subject merchandise during the POR and will issue appropriate instructions to CBP based on these final results.

⁸ See Preliminary Results, 85 FR at 2706.

⁹ See Memorandum, “Diamond sawblades and parts thereof from China (A-570-900),” dated February 21, 2020.

Changes Since the Preliminary Results

Based on a review of the record and comments received from interested parties regarding our Preliminary Results, and for the reasons explained in the Issues and Decision Memorandum, we made revisions to our preliminary calculations of the weighted-average dumping margin for the single mandatory respondent, Chengdu Huifeng, but the revisions did not result in a change to the weighted-average margin for Chengdu Huifeng and the margin assigned to the separate rate respondents.

Separate Rate for Non-Selected Companies

In the Preliminary Results, we found that evidence provided by Bosun Tools Co., Ltd., Chengdu Huifeng New Material Technology Co., Ltd., the Jiangsu Fengtai Single Entity, Wuhan Wanbang Laser Diamond Tools Co., Ltd., Xiamen ZL Diamond Technology Co., Ltd., and Zhejiang Wanli Tools Group Co., Ltd., supported finding an absence of both de jure and de facto government control, and, therefore, we preliminarily granted a separate rate to each of these companies/company groups.¹⁰ We received no comments since the issuance of the Preliminary Results regarding our determination that these six companies/company groups are eligible for a separate rate. As in the Preliminary Results, Commerce calculated a rate for the mandatory respondent Chengdu Huifeng that is zero, de minimis, or based entirely on facts available. Therefore, in accordance with section 735(c)(5)(A) of the Act and its prior practice, Commerce assigned Chengdu Huifeng's calculated rate (i.e., 0.00 percent) as the separate rate for the non-examined separate rate exporters for these final results.¹¹

¹⁰ See the “Separate Rates” section of the Preliminary Decision Memorandum.

¹¹ For more details on our methodology in selecting a rate for a non-examined separate rate exporter, see the “Separate Rates” section of the Issues and Decision Memorandum.

China-Wide Entity

As stated in the Preliminary Results, because no party requested a review of the China-wide entity in this review, the entity is not under review and the entity's rate is not subject to change (i.e., 82.05 percent).¹² Aside from the no-shipment and separate rate companies discussed above, Commerce considers all other companies for which a review was requested and which did not file a separate rate application to be part of the China-wide entity.¹³

¹² See Diamond Sawblades and Parts Thereof From the People's Republic of China; Final Results of Antidumping Duty Administrative Review; 2012-2013, 80 FR 32344 (June 8, 2015).

¹³ See Initiation Notice, 85 FR at 2160 (“All firms listed below that wish to qualify for separate rate status in the administrative reviews involving NME countries must complete, as appropriate, either a separate rate application or certification, as described below. . . .”). Companies that are subject to this administrative review that are considered to be part of the China-wide entity are: ASHINE Diamond Tools Co., Ltd.; Danyang City Ou Di Ma Tools Co. Ltd.; Danyang Huachang Diamond Tool Manufacturing Co., Ltd.; Danyang Like Tools Manufacturing Co., Ltd.; Danyang NYCL Tools Manufacturing Co., Ltd.; Danyang Tsunda Diamond Tools Co., Ltd.; Guilin Tebon Superhard Material Co., Ltd.; Hangzhou Deer King Industrial and Trading Co., Ltd.; Hangzhou Kingburg Import & Export Co., Ltd.; Hebei XMF Tools Group Co., Ltd.; Henan Huanghe Whirlwind Co., Ltd.,; Henan Huanghe Whirlwind International Co., Ltd.; Hong Kong Hao Xin International Group Limited, Hubei Changjiang Precision Engineering Materials Technology Co., Ltd.; Hubei Sheng Bai Rui Diamond Tools Co., Ltd.; Huzhou Gu's Import & Export Co., Ltd.; Jiangsu Huachang Diamond Tools Manufacturing Co., Ltd.; Jiangsu Inter-China Group Corporation; Jiangsu Youhe Tool Manufacturer Co., Ltd.; Orient Gain International Limited, Pantos Logistics (HK) Company Limited; Pujiang Talent Diamond Tools Co., Ltd.; Qingdao Hyosung Diamond Tools Co., Ltd.; Qingyuan Shangtai Diamond Tools Co., Ltd.; Qingdao Shinhan Diamond Industrial Co., Ltd.; Quanzhou Zhongzhi Diamond Tool Co., Ltd.; Rizhao Hein Saw Co., Ltd.; Saint-Gobain Abrasives (Shanghai) Co., Ltd.; Shanghai Jingquan Industrial Trade Co., Ltd.; Shanghai Starcraft Tools Co. Ltd.; Sino Tools Co., Ltd.; Wuhan Baiyi Diamond Tools Co., Ltd.; Wuhan Sadia Trading Co., Ltd.; Wuhan ZhaoHua Technology Co., Ltd.; Zhenjiang Inter-China Import & Export Co., Ltd.; ZL Diamond Technology Co., Ltd.; and ZL Diamond Tools Co., Ltd. Although Shanghai Starcraft Tools Co. Ltd. submitted comments stating that its shipments listed in the CBP import data placed on the record by Commerce were not subject merchandise, we did not treat the submission as a no-shipment statement in the Preliminary Results and, therefore, we preliminarily considered Shanghai Starcraft Tools Co. Ltd. to be part of the China-wide Entity. See the “Preliminary Determination of No Shipments” section of the Preliminary Decision Memorandum. We received no additional comments or information since the Preliminary Results and, therefore, consider Shanghai Starcraft Tools Co. Ltd. to be part of the China-wide Entity for the final results.

Final Results of Administrative Review

As a result of this administrative review, Commerce determines that the following weighted-average dumping margins exist for the period November 1, 2017 through October 31, 2018:

Exporters | Weighted- average dumping margin (percent)
Chengdu Huifeng New Material Technology Co., Ltd | 0.00
Separate Rate Applicable to the Following Non-Selected Companies:
Bosun Tools Co., Ltd | 0.00
Jiangsu Fengtai Single Entity | 0.00
Wuhan Wanbang Laser Diamond Tools Co., Ltd | 0.00
Xiamen ZL Diamond Technology Co., Ltd | 0.00
Zhejiang Wanli Tools Group Co., Ltd | 0.00

Disclosure

Commerce intends to disclose the calculations performed for these final results within five days of publication of this notice in the Federal Register in accordance with 19 CFR 351.224(b).

Assessment Rates

Pursuant to section 751(a)(2)(A) of the Act and 19 CFR 351.212(b), and the Final Modification for Reviews,¹⁴ Commerce intends to instruct CBP to liquidate without regard to antidumping duties all appropriate entries for respondents eligible for a separate rate.¹⁵ For all other companies, we will instruct CBP to apply the antidumping duty assessment rate of the China-wide entity, 82.05 percent, to all entries of subject merchandise exported by these companies.¹⁶ For the three companies that we determined had no reviewable entries of the subject merchandise in this review period, any suspended entries that entered under that exporter's case number (i.e., at that exporter's rate) will be liquidated at the China-wide rate. We intend to issue assessment instructions to CBP 15 days after the date of publication of the final results of these reviews in the Federal Register.

¹⁴ See Antidumping Proceedings: Calculation of the Weighted-Average Dumping Margin and Assessment Rate in Certain Antidumping Duty Proceedings; Final Modification, 77 FR 8101, 8103 (February 14, 2012) (Final Modification for Reviews).

¹⁵ See 19 CFR 351.212(b)(1).

¹⁶ See Initiation of Antidumping and Countervailing Duty Administrative Reviews, 84 FR 2159 (February 6, 2019) (“All firms listed below that wish to qualify for separate rate status in the administrative reviews involving NME countries must complete, as appropriate, either a separate rate application or certification, as described below.”)

Cash Deposit Requirements

The following cash deposit requirements will be effective upon publication of the final results of these reviews for shipments of the subject merchandise from China entered, or withdrawn from warehouse, for consumption on or after the publication date, as provided by section 751(a)(2)(C) of the Act: (1) For the subject merchandise exported by the companies listed above that have separate rates, the cash deposit rate will be equal to the weighted-average dumping margin established for Chengdu Huifeng in the final results of this administrative review; (2) for previously investigated or reviewed Chinese and non-Chinese exporters not listed above that received a separate rate in a prior segment of this proceeding, the cash deposit rate will continue to be the existing exporter-specific rate; (3) for all Chinese exporters of subject merchandise that have not been found to be entitled to a separate rate, the cash deposit rate will be that for the China-wide entity; and (4) for all non-Chinese exporters of subject merchandise which have not received their own rate, the cash deposit rate will be the rate applicable to the Chinese exporter that supplied that non-Chinese exporter. These deposit requirements, when imposed, shall remain in effect until further notice.

Notification to Importers

This notice serves as a final reminder to importers of their responsibility under 19 CFR 351.402(f)(2) to file a certificate regarding the reimbursement of antidumping duties prior to liquidation of the relevant entries during this POR. Failure to comply with this requirement could result in Commerce's presumption that reimbursement of the antidumping duties occurred and the subsequent assessment of doubled antidumping duties.

Notification Regarding Administrative Protective Order

This notice also serves as a reminder to parties subject to administrative protective order (APO) of their responsibility concerning the return or destruction of proprietary information disclosed under APO in accordance with 19 CFR 351.305(a)(3). Timely written notification of the return or destruction of APO materials or conversion to judicial protective order is hereby requested. Failure to comply with the regulations and terms of an APO is a violation subject to sanction.

Notification to Interested Parties

This notice is published in accordance with sections 751(a)(1) and 777(i)(1) of the Act and 19 CFR 351.221(b)(5). Note that Commerce has temporarily modified certain of its requirements for serving documents containing business proprietary information.¹⁷

¹⁷ See Temporary Rule Modifying AD/CVD Service Requirements Due to COVID-19; Extension of Effective Period, 85 FR 41363 (July 10, 2020).

Dated: November 2, 2020.
Jeffrey I. Kessler,
Assistant Secretary for Enforcement and Compliance.

Appendix

List of Topics Discussed in the Issues and Decision Memorandum

I. Summary

II. Background

III. Scope of the Order

IV. Surrogate Country

V. Discussion of the Issues

Comment 1: Selection of Primary Surrogate Country

Comment 2: Valuation of Diamond Input

Comment 3: Selection of Financial Statements for Surrogate Financial Ratios

Comment 4: Whether to Apply Partial AFA to Chengdu Huifeng's Reported Labor FOPs

Comment 5: Conversions of Surrogate Values

VI. Recommendation

[FR Doc. 2020-24800 Filed 11-6-20; 8:45 am]

BILLING CODE 3510-DS-P